COMMISSION ON CIVIL RIGHTS

Notice of Public Meetings of the Colorado, Massachusetts, and Vermont Advisory Committees; Corrections

AGENCY: Commission on Civil Rights.

ACTION: Notices.

Colorado: Revision to date and time.

Massachusetts: Revision to calling information.

Vermont: Revision to time.

SUMMARY: Colorado: The Commission on Civil Rights published a notice in the Federal Register of Friday, May 22, 2020, concerning a meeting of the Colorado Advisory Committee. The document contained a date and time that is now changed to a new date and time.

FOR FURTHER INFORMATION CONTACT: Evelyn Bohor, (202) 381-8915, ebohor@usccr.gov.

Correction: In the Federal Register of Friday, May 8, 2020, in FR Doc. 2020-09844, on page 27357-27358, in the second column of 27357 and third column of 27358, correct the date and time to read: Friday, May 22, 2020 at 12:00 p.m. (EDT).

Massachusetts: The Commission on Civil Rights published a notice in the Federal Register of Friday, May 8, 2020, concerning a meeting of the Massachusetts Advisory Committee. The document contained incorrect calling numbers.

FOR FURTHER INFORMATION CONTACT: Evelyn Bohor, (202) 381-8915, ebohor@usccr.gov.

Correction: In the Federal Register of Friday, May 8, 2020, in FR Doc. 2020-09816, on page 27356, second column and first paragraph and third column, first and second paragraphs, correct calling numbers to read: Conference call-in number: 1-800-367-2403 and conference ID: 27356.

Vermont: The Commission on Civil Rights published a notice in the Federal Register of Tuesday, May 5, 2020, concerning a meeting of the Vermont Advisory Committee. The document contained a date and time that is now changed to a new time.

FOR FURTHER INFORMATION CONTACT: Evelyn Bohor, (202) 381-8915, ebohor@usccr.gov.

Correction: In the Federal Register of Tuesday, May 5, 2020, in FR Doc. 2020-09533, in the first and second columns of page 26665, correct the time to read: Thursday, May 21, 2020 at 4:00 p.m. (EDT).

Dated: May 14, 2020.
David Mussatt,
Supervisory Chief, Regional Programs Unit.

[FR Doc. 2020-10781 Filed 5-19-20; 8:45 am]

BILLING CODE 6335-01-P